DEPARTMENT OF TRANSPORTATION

Coast Guard

[USCG-2002-13191]

Review of Great Lakes Pilotage Bridge Hour Standards

AGENCY: Coast Guard, DOT.

ACTION: Notice of meeting; additional information.

SUMMARY: This notice provides the time, location and point of contact for the October 10, 2002, public meeting in Duluth, MN on the Great Lakes Pilotage Bridge Hour Standards Review. The original meeting schedule was published on August 26, 2002 (67 FR 54836) without the details for the Duluth meeting because they were not available at that time.

DATES: The meeting will be held on October 10, 2002, 8:30 a.m. to 11:30 a.m., in Duluth, MN.

Written material and requests to make oral presentations should reach the Coast Guard not later than October 8, 2002. The meeting may close early if all business is finished.

ADDRESSESES: The meeting will be held at the Duluth Seaway Port Authority, 1200 Port Terminal Drive, Duluth, MN 55802.

Send requests to make oral presentations, comments, and written material for distribution at the October 10, 2002, public meeting to Ms. Margie Hegy, Commandant (G-MW), U.S. Coast Guard Headquarters, 2100 Second Street SW., Washington, DC 20593-0001. This notice, and the convening letter for the Coast Guard's review of Great Lakes Pilotage bridge hour standards, including review questions, are available on the Internet at http://dms.dot.gov.

FOR FURTHER INFORMATION CONTACT: Ms. Margie Hegy, telephone 202-267-0415, fax 202-267-4700.

SUPPLEMENTARY INFORMATION:

The Review

The review is being conducted to study the Coast Guard's management and methodology for the development of Great Lakes pilotage bridge hour standards and to produce a recommendation of the appropriate standards. Bridge hour standards are a critical element in determining the number of U.S. pilots needed to provide service to commercial vessels engaged in foreign trade on the Great Lakes. The current bridge hour standards are published in the appendix, Ratemaking Analyses and Methodology, to 46 CFR Part 404.

Procedural

RADM J. T. Riker, USCGR will chair the public meeting. The public meeting is open for public participation. Please note that the meeting may close early if all business is finished. The Speaker's time may be limited. Please come prepared with a written copy of remarks to be entered into the record in the event that you are not able to complete them verbally. If you would like to make an oral presentation at the meeting, please notify Ms. Margie Hegy no later than October 8, 2002. If you would like a copy of your material distributed, please submit 15 copies to Mrs. Margie Hegy no later than October 8, 2002.

Information on Services for Individuals With Disabilities

For information on facilities or services for individuals with disabilities or to request special assistance at a meeting, contact Ms. Margie Hegy as soon as possible.

Dated: September 19, 2002.
Joseph J. Angelo,
Acting Assistant Commandant for Marine Safety, Security and Environmental Protection.

[FR Doc. 02-24457 Filed 9-25-02; 8:45 am]

BILLING CODE 4910-15-U